DEPARTMENT OF ENERGY

Federal Energy Regulatory Commission

[Docket No. ER01-627-001, et al.]

Commonwealth Edison Company, et al.; Electric Rate and Corporate Regulation Filings

January 2, 2001.

Take notice that the following filings have been made with the Commission:

1. Commonwealth Edison Company

[Docket No. ER01-627-001]

Take notice that on December 21, 2000, Exelon Corporation (Exelon), on behalf of its subsidiaries, Commonwealth Edison Company (ComEd) and Exelon Generation, L.L.C. (Exelon Generation), tendered for filing an amendment to its December 8, 2000, filing of a form of agreement entitled Ancillary and Other Control Area Services Resource Purchase Agreement (hereafter the Agreement). Due to an administrative oversight, the Agreement references various Schedules which were inadvertently omitted in Exelon's December 8, 2000 filing. Per an informal request of FERC Staff, ComEd is accordingly submitting with this transmittal letter the Agreement, along with the previously omitted Schedules referenced in said Agreement.

FERC Staff has advised ComEd that making this amended filing should not affect the effective date of January 1, 2001 requested by ComEd in its December 8, 2000 filing in this docket.

Comment date: January 11, 2001, in accordance with Standard Paragraph E at the end of this notice.

2. Commonwealth Edison Company

[Docket No. ER01-628-001]

Take notice that on December 21, 2000, Commonwealth Edison Company (ComEd) tendered for filing an amendment to its December 8, 2000, filing to revise Schedules 4, 4A and 4G to ComEd's Open Access Transmission Tariff (OATT). Second Revised Sheet No. 124 of ComEd's OATT references Schedule 1 of the Ancillary and Other Control Area Services Resource Purchase Agreement (Agreement) between ComEd and Exelon Generation, L.L.C., filed contemporaneously in Docket No. ER01-627-000 with the revisions to Schedules 4, 4A and 4G. Per an informal request of FERC Staff, ComEd is amending its filing to include Schedule 1 of the Agreement as Attachment A to Schedule 4, instead of merely referencing it in Schedule 4 to ComEd's OATT.

Comment date: January 11, 2001, in accordance with Standard Paragraph E at the end of this notice.

3. Southwestern Electric Power Company

[Docket No. ER01-651-001]

Take notice that on December 21, 2000, Southwestern Electric Power Company (SWEPCO) tendered for filing in this subdocket rate sheets reflecting a proposed fixed return on common equity (ROE) to be used in establishing estimated and final redetermined formula rates for wholesale service to the City of Bentonville, Arkansas (Bentonville). SWEPCO currently provides service to Bentonville and its other wholesale formula rate customers under contracts which provide for periodic changes in rates and charges determined in accordance with cost-of-service formulas, including a formulaic determination of the ROE. SWEPCO has proposed in this docket to replace the formulaic ROE with a fixed ROE. The filing in this subdocket is solely to file the proposed Bentonville rate sheets that have been conformed to Order No. 614.

SWEPCO seeks an effective date of January 1, 2001 and, accordingly, seeks waiver of the Commission's notice requirements. Copies of the filing were served on Bentonville, all parties to this proceeding and the Arkansas Public Service Commission.

Comment date: January 11, 2001, in accordance with Standard Paragraph E at the end of this notice.

4. Tampa Electric Company

[Docket No. ER01-713-001]

Take notice that on December 21, 2000, Tampa Electric Company (Tampa Electric) tendered for filing a service agreement with Enron Power Marketing, Inc. (Enron) under Tampa Electric's market-based sales tariff. Tampa Electric submitted an amended service agreement designation on December 21, 2000.

Tampa Electric proposes that the service agreement be made effective on December 1, 2000, and gives notice of its termination as of January 1, 2001.

Copies of the filing have been served on Enron and the Florida Public Service Commission.

Comment date: January 11, 2001, in accordance with Standard Paragraph E at the end of this notice.

5. Illinois Power Company

[Docket No. ER01-740-000]

Take notice that on December 21, 2000, Illinois Power Company (Illinois Power), 500 South 27th Street, Decatur, Illinois 65251-2200, filed with the Commission a Service Agreement for Firm Short-Term Point-To-Point Transmission Service with Wisconsin Public Service Corporation (WPS) entered into pursuant to Illinois Power's Open Access Transmission Tariff. Also on December 22, 2000, Illinois Power filed a letter clarifying a statement in its request for waiver filed with the above-mentioned Service Agreement.

Illinois Power requests an effective date of November 9, 2000 for the Agreement and accordingly seeks a waiver of the Commission's notice requirement based on extraordinary circumstances.

Illinois Power has served a copy of the filing on WPS.

Comment date: January 11, 2001, in accordance with Standard Paragraph E at the end of this notice.

6. California Independent System Operator Corporation

[Docket No. ER01-724-000]

Take notice that on December 21, 2000, the California Independent System Operator Corporation (ISO), tendered for filing a revision to the Transmission Control Agreement (TCA) for acceptance by the Commission. The ISO states that the purpose of the amendment is (1) to clarify responsibilities in the TCA concerning the ISO Maintenance Standards and to include a new Appendix F identifying the persons to contact at each party for notice purposes; (2) to address the Commission's statement in Mid-Continent Area Power Pool, 92 FERC ¶ 61,229 that contractual arrangements involving regional transmission service should be crafted to ensure that responsibilities of all parties with respect to issues such as refunds are delineated in advance; (3) to clarify four provisions of the current TCA in response to issues raised by the City of Vernon, California (Vernon), which has applied to become a Participating Transmission Owner; and (4) to identify the transmission interests that Vernon would be turning over to the ISO's Operational Control if Vernon executes the amended TCA unconditionally.

The ISO states that this filing has been served the Public Utilities Commission of California, the California Energy Commission, the California Electricity Oversight Board, and all parties, including Vernon, with effective Scheduling Coordinator Agreements under the ISO Tariff.

The ISO is requesting waiver of the 60-day notice requirement to allow the TCA to be made effective January 1, 2001.

Comment date: January 11, 2001, in accordance with Standard Paragraph E at the end of this notice.

7. Wisconsin Electric Power Company

[Docket No. ER01-252-001]

Take notice that on December 21, 2000, Wisconsin Electric Power Company (Wisconsin Electric) submitted a filing containing designations pursuant to Order No. 614, in compliance with the letter order issued December 11, 2000 in Docket No. ER01-252-000 in which the Commission accepted the filing, effective January 1, 2001.

Comment date: January 11, 2001, in accordance with Standard Paragraph E at the end of this notice.

8. Citizens Communications Company

[Docket No. ER01-249-001]

Take notice that on December 21, 2000, in compliance with the Commission's December 6, 2000 letter order in this proceeding, Citizens Communications Company filed on a non-confidential basis an Agreement to sell to Select Energy, Inc. a portion of its energy entitlement pursuant to the Firm Energy Contract between NEPOOL Phase II Participants and HydroQuebec, dated October 4, 1984.

A copy of this filing was served on the service list in this docket, and on Select Energy, Inc. In addition, a copy of the rate schedule is available for inspection at the offices of Citizens' Vermont Electric Division during regular business hours.

Comment date: January 11, 2001, in accordance with Standard Paragraph E at the end of this notice.

9. FirstEnergy Operating Companies

[Docket No. ER00-3771-002]

Take notice that on December 21, 2000, The Cleveland Electric Illuminating Company, Ohio Edison Company, Pennsylvania Power Company and The Toledo Edison Company (collectively, the FirstEnergy Operating Companies) tendered for filing their FERC Electric Tariff, First Revised Volume No. 3, pursuant to which they are offering to make available ancillary services and interconnected operations services. The FirstEnergy Operating Companies state that this tariff contains modifications to a tariff submitted in September 2000 that were required by the Order Accepting for Filing, as Modified, Proposed Tariff and Service Agreement which was issued in this proceeding on November 22, 2000.

Comment date: January 11, 2001, in accordance with Standard Paragraph E at the end of this notice.

10. New England Power Pool

[Docket No. ER00-3577-003]

Take notice that on December 22, 2000, the New England Power Pool (NEPOOL) Participants Committee and ISO New England Inc. submitted a joint report of compliance in response to requirements of the Commission's November 22, 2000 order in Docket No. ER00-3577-000. New England Power Pool, 93 FERC ¶ 61,195 (2000).

The NEPOOL Participants Committee states that copies of these materials were sent to all persons identified on the service list in the captioned proceeding, the NEPOOL Participants and the six New England state governors and regulatory commissions.

Comment date: January 11, 2001, in accordance with Standard Paragraph E at the end of this notice.

11. Sithe Edgar LLC; Sithe New Boston LLC; Sithe Framingham LLC; Sithe West Medway LLC; Sithe Wyman LLC; Sithe Mystic LLC; AG-Energy, L.P.; Power City Partners, L.P.; Seneca Power Partners, L.P.; Sterling Power Partners, L.P.; Sithe Power Marketing, L.P.; Sithe Power Marketing, Inc.

[Docket No. ER00-3691-001]

Take notice that on December 21, 2000, the above referenced applicants (the Sithe Jurisdictional Affiliates) filed with the Commission proposed rate schedule designations in compliance with Order No. 614, and the Order issued in this proceeding on November 24, 2000.

Comment date: January 11, 2001, in accordance with Standard Paragraph E at the end of this notice.

12. Commonwealth Edison Company

[Docket Nos. ER00-2814-003]

Take notice that on December 21, 2000, Commonwealth Edison Company (ComEd) submitted for filing an executed Dynamic Scheduling Agreement (Agreement) with its Wholesale Merchant Function Division (WMD) under ComEd's Open Access Transmission Tariff (OATT) in compliance with the Commission's December 14, 2000 Order issued in Docket Nos. ER00-2814-000, ER00-2814-001, and ER00-2814-002. Commonwealth Edison Company, 93 FERC & 61,271 (2000).

Comment date: January 11, 2001, in accordance with Standard Paragraph E at the end of this notice.

13. UtiliCorp United Inc.

[Docket No. ER99-203-002]

Take notice that on December 22, 2000, UtiliCorp United Inc. filed the required three-year updated market analysis in this docket.

Comment date: January 12, 2001, in accordance with Standard Paragraph E at the end of this notice.

14. Bangor Energy Resale, Inc.

[Docket No. ER98-459-009]

Take notice that on December 22, 2000, Bangor Energy Resale, Inc. (Bangor Energy) filed an updated market analysis as required by the Commission's December 23, 1997 order in Docket No. ER98-459-000 granting Bangor Energy market based rate authority.

Comment date: January 12, 2001, in accordance with Standard Paragraph E at the end of this notice.

15. Wolverine Power Supply Cooperative, Inc.

[Docket No. ER98-411-010]

Take notice that on December 22, 2000, Wolverine Power Supply Cooperative, Inc. (Wolverine), filed a revised Generation Market Dominance Analysis, in compliance with the Commission's Order in Wolverine Power Supply Cooperative, Inc., 81 FERC ¶ 61,369 (1997).

Comment date: January 12, 2001, in accordance with Standard Paragraph E at the end of this notice.

16. Dynegy Roseton, L.L.C.

[Docket No. EG01-80-000]

Take notice that on December 21, 2000, Dynegy Roseton, L.L.C., 1000 Louisiana, Suite 5800, Houston, Texas filed with the Federal Energy Regulatory Commission an application for determination of exempt wholesale generator status pursuant to Part 365 of the Commission's Regulations.

Dynegy Roseton, L.L.C. is a Delaware limited liability company, and is engaged directly and exclusively in owning and/or operating an electric generating facility in New York, and selling electric energy at wholesale.

Comment date: January 23, 2001, in accordance with Standard Paragraph E at the end of this notice. The Commission will limit its consideration of comments to those that concern the adequacy or accuracy of the application.

17. Harquahala Generating Company, LLC

[Docket No. EG01-81-000]

Take notice that on December 21, 2000, Harquahala Generating Company, LLC (Harquahala), a limited liability company with its principal place of business at 7500 Old Georgetown Road, Bethesda, Maryland 20814, filed with the Federal Energy Regulatory Commission an application for determination of exempt wholesale generator status pursuant to Part 365 of the Commission's regulations.

Harquahala proposes to construct, own or lease and operate a natural gas-fired, combined cycle power plant of approximately 1050 MW capacity in Maricopa County, Arizona. The proposed power plant is expected to commence commercial operation in 2003. All output from the plant will be sold by Harquahala exclusively at wholesale.

Comment date: January 22, 2001, in accordance with Standard Paragraph E at the end of this notice. The Commission will limit its consideration of comments to those that concern the adequacy or accuracy of the application.

18. Dynegy Danskammer, L.L.C.

[Docket No. EG01-82-000]

Take notice that on December 21, 2000, Dynegy Danskammer, L.L.C., 1000 Louisiana, Suite 5800, Houston, Texas filed with the Federal Energy Regulatory Commission an application for determination of exempt wholesale generator status pursuant to Part 365 of the Commission's Regulations.

Dynegy Danskammer, L.L.C. is a Delaware limited liability company, and is engaged directly and exclusively in owning and/or operating an electric generating facility in New York, and selling electric energy at wholesale.

Comment date: January 23, 2001, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-439 Filed 1-5-01; 8:45 am]

BILLING CODE 6717-01-P